DEPARTMENT OF HEALTH AND HUMAN SERVICES

Centers for Disease Control and Prevention

[60Day-15-15CI]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Mental Health Profile of Congolese Refugees—New—National Center for Emerging and Zoonotic Infectious Diseases (NCEZID), Centers for Disease Control and Prevention (CDC).

Background and Brief Description

The central objective of this collection is to compile a mental health profile of Congolese refugees departing from Uganda, and to describe some of the mental health conditions most often experienced by this population. The specific objectives are (1) through a survey and focus groups, collect more detailed and systematic data on exposure to trauma and symptoms of PTSD, anxiety, and depression among a sample of Congolese refugees from Uganda prior to their resettlement in the United States; and, (2) to better inform state and local healthcare providers in the United States and in Uganda about the mental health needs of the Congolese refugee populations come to their states. As CDC have seen in previous surveys, although there may be similarities in the mental health problems that refugee populations may experience over all, there are also very specific differences in terms of cultural background, coping styles, severity, and risk factors. Without doing a survey, it would not be possible to provide specific recommendations for Congolese refugees who are coming to the U.S.

The respondents in this study will be Congolese refugees 15 years of age or older who have been referred for U.S. resettlement in settlement and urban sites in Uganda and who consent to a supplemental mental health assessment after their required overseas medical exam or security screening interview.

Individual level data will not be collected. Aggregated data will collected during focus groups and surveys to form a `profile' of Congolese refugee regarding their levels of anxiety, depression, PTSD, ability to cope, physical functioning, bodily pain, role limitations due to physical health problems, role limitations due to personal or emotional problems, emotional well-being, and social function.

The focus group discussion tool poses eight open-ended questions and will be moderated by a professional in the appropriate language for the specific Congolese refugee group.

For the survey tool, CDC proposes to the use a compilation of the Hopkins Symptom Checklist, Harvard Trauma Questionnaire, the Medical Outcomes Assessment 36-Item Short-Form Health Survey (SF-36), a limited number of questions from The Coping Strategy Indicator, and questions concerning history of mental illness or substance abuse. Each of these tools has been used in similar populations that have experienced trauma or in conflict environments.

The sample population will be a convenience sample of the Congolese refugee population ages 15 or older in Uganda and will be selected from the available population being examined during the International Organization for Migration (IOM) medical or Resettlement Support Center (RSC) screening interviews. As refugees are waiting for their IOM exam or RSC interview, staff will introduce the assessment with the help of an interpreter, and make arrangements for obtaining consent from refugees who meet the inclusion and exclusion criteria prior to the assessment.

There is no cost to respondents other than their time. The total estimated annualized burden hours are 386.

Estimated Annualized Burden Hours
Type of respondents | Form name | Number of respondents | Number of responses per respondent | Average burden per response (in hours) | Total burden hours
Refugee | Focus Group Discussion Tool | 16 | 1 | 1 | 16
Refugee | Survey Tool | 370 | 1 | 1 | 370
Total |  |  |  |  | 386

Leroy A. Richardson,
Chief, Information Collection Review Office, Office of Scientific Integrity, Office of the Associate Director for Science, Office of the Director, Centers for Disease Control and Prevention.

[FR Doc. 2014-25562 Filed 10-27-14; 8:45 am]

BILLING CODE 4163-18-P